DEPARTMENT OF ENERGY

Federal Energy Regulatory Commission

Combined Notice of Filings #1

Take notice that the Commission received the following electric corporate filings:

Docket Numbers: EC24-22-000.

Applicants: CXA La Paloma, LLC, Capital Power Investments LLC.

Description: Joint Application for Authorization Under Section 203 of the Federal Power Act of CXA La Paloma, LLC.

Filed Date: 12/5/23.

Accession Number: 20231205-5165.

Comment Date: 5 p.m. ET 12/26/23.

Docket Numbers: EC24-23-000.

Applicants: New Harquahala Generating Company, LLC, Capital Power Investments LLC, GEPIF III Trident HoldCo, L.P., Trident AcquisitionCo LLC.

Description: Joint Application for Authorization Under Section 203 of the Federal Power Act of New Harquahala Generating Company, LLC.

Filed Date: 12/5/23.

Accession Number: 20231205-5167.

Comment Date: 5 p.m. ET 12/26/23.

Take notice that the Commission received the following exempt wholesale generator filings:

Docket Numbers: EG24-51-000.

Applicants: Carpenter Wind Farm LLC.

Description: Carpenter Wind Farm LLC submits Notice of Self-Certification of Exempt Wholesale Generator Status.

Filed Date: 12/6/23.

Accession Number: 20231206-5032.

Comment Date: 5 p.m. ET 12/27/23.

Docket Numbers: EG24-52-000.

Applicants: Cattlemen Solar Park II LLC.

Description: Cattlemen Solar Park II LLC submits Notice of Self-Certification of Exempt Wholesale Generator Status.

Filed Date: 12/6/23.

Accession Number: 20231206-5034.

Comment Date: 5 p.m. ET 12/27/23.

Docket Numbers: EG24-53-000.

Applicants: Crooked Lake Solar II LLC.

Description: Crooked Lake Solar II LLC submits Notice of Self-Certification of Exempt Wholesale Generator Status.

Filed Date: 12/6/23.

Accession Number: 20231206-5035.

Comment Date: 5 p.m. ET 12/27/23.

Take notice that the Commission received the following electric rate filings:

Docket Numbers: ER23-2138-002.

Applicants: Midcontinent Independent System Operator, Inc., Ameren Illinois Company.

Description: Tariff Amendment: Midcontinent Independent System Operator, Inc. submits tariff filing per 35.17(b): 2023-12-06_SA 4085 Ameren IL—SIPC IA to be effective 8/14/2023.

Filed Date: 12/6/23.

Accession Number: 20231206-5098.

Comment Date: 5 p.m. ET 12/27/23.

Docket Numbers: ER23-2810-001.

Applicants: Midcontinent Independent System Operator, Inc.

Description: Tariff Amendment: 2023-12-06_SA 3388 Deficiency Response ATXI—Knox County Sub 2nd Rev GIA (J844) to be effective 9/12/2023.

Filed Date: 12/6/23.

Accession Number: 20231206-5139.

Comment Date: 5 p.m. ET 12/27/23.

Docket Numbers: ER24-61-000.

Applicants: Sky Ranch Solar, LLC.

Description: Supplement to October 10, 2023, Sky Ranch Solar, LLC tariff filing.

Filed Date: 12/5/23.

Accession Number: 20231205-5169.

Comment Date: 5 p.m. ET 12/15/23.

Docket Numbers: ER24-554-000.

Applicants: NorthWestern Corporation.

Description: § 205(d) Rate Filing: SA 921 1st Rev—PTP with Portland General Electric Co to be effective 12/1/2023.

Filed Date: 12/5/23.

Accession Number: 20231205-5152.

Comment Date: 5 p.m. ET 12/26/23.

Docket Numbers: ER24-555-000.

Applicants: PJM Interconnection, L.L.C.

Description: § 205(d) Rate Filing: Amendment to WMPA, SA No. 4841; Queue No. AC2-136 (amend) to be effective 2/5/2024.

Filed Date: 12/6/23.

Accession Number: 20231206-5031.

Comment Date: 5 p.m. ET 12/27/23.

Docket Numbers: ER24-556-000.

Applicants: Midcontinent Independent System Operator, Inc.

Description: § 205(d) Rate Filing: 2023-12-06_SA 4066 NIPSCO-Sedge Meadow Solar Park 1st Rev GIA (J1407) to be effective 11/27/2023.

Filed Date: 12/6/23.

Accession Number: 20231206-5069.

Comment Date: 5 p.m. ET 12/27/23.

Docket Numbers: ER24-557-000.

Applicants: PJM Interconnection, L.L.C.

Description: § 205(d) Rate Filing: Amendment to ISA, Service Agreement No. 6473; Queue No. AE1-153 to be effective 2/5/2024.

Filed Date: 12/6/23.

Accession Number: 20231206-5075.

Comment Date: 5 p.m. ET 12/27/23.

Docket Numbers: ER24-558-000.

Applicants: Puget Sound Energy, Inc.

Description: Tariff Amendment: Cancellation of Service Agreements between PSE/Center Drive Owners Association to be effective 12/1/2023.

Filed Date: 12/6/23.

Accession Number: 20231206-5088.

Comment Date: 5 p.m. ET 12/27/23.

Docket Numbers: ER24-559-000.

Applicants: American Kings Solar, LLC.

Description: § 205(d) Rate Filing: Revised Market-Based Rate Tariff to be effective 12/7/2023.

Filed Date: 12/6/23.

Accession Number: 20231206-5101.

Comment Date: 5 p.m. ET 12/27/23.

Docket Numbers: ER24-560-000.

Applicants: Carpenter Wind Farm LLC.

Description: Baseline eTariff Filing: Market-Based Rate Application to be effective 2/5/2024.

Filed Date: 12/6/23.

Accession Number: 20231206-5107.

Comment Date: 5 p.m. ET 12/27/23.

Docket Numbers: ER24-561-000.

Applicants: VESI 23 LLC.

Description: Baseline eTariff Filing: Petition for Approval of Initial Market-Based Rate Tariff to be effective 12/7/2023.

Filed Date: 12/6/23.

Accession Number: 20231206-5109.

Comment Date: 5 p.m. ET 12/27/23.

Docket Numbers: ER24-562-000.

Applicants: Branscomb Solar, LLC

Description: § 205(d) Rate Filing: Revised Market-Based Rate Tariff to be effective 12/7/2023.

Filed Date: 12/6/23.

Accession Number: 20231206-5111.

Comment Date: 5 p.m. ET 12/27/23.

Docket Numbers: ER24-563-000.

Applicants: Crooked Lake Solar II LLC.

Description: Baseline eTariff Filing: Market-Based Rate Application to be effective 2/5/2024.

Filed Date: 12/6/23.

Accession Number: 20231206-5112.

Comment Date: 5 p.m. ET 12/27/23.

Docket Numbers: ER24-564-000.

Applicants: VESI 12 LLC.

Description: Baseline eTariff Filing: Petition for Approval of Initial Market-Based Rate Tariff to be effective 1/1/2024.

Filed Date: 12/6/23.

Accession Number: 20231206-5113.

Comment Date: 5 p.m. ET 12/27/23.

Docket Numbers: ER24-565-000.

Applicants: Midcontinent Independent System Operator, Inc., Ameren Transmission Company of Illinois.

Description: § 205(d) Rate Filing: Midcontinent Independent System Operator, Inc. submits tariff filing per 35.13(a)(2)(iii: 2023-12-06_ATXI Request for Approval of Transmission Rate Incentives to be effective 2/5/2024.

Filed Date: 12/6/23.

Accession Number: 20231206-5116.

Comment Date: 5 p.m. ET 12/27/23.

Docket Numbers: ER24-566-000.

Applicants: Darby Solar, LLC.

Description: § 205(d) Rate Filing: Revised Market-Based Rate Tariff to be effective 12/7/2023.

Filed Date: 12/6/23.

Accession Number: 20231206-5117.

Comment Date: 5 p.m. ET 12/27/23.

Docket Numbers: ER24-567-000.

Applicants: Dry Bridge Solar 1, LLC.

Description: § 205(d) Rate Filing: Revised Market-Based Rate Tariff to be effective 12/7/2023.

Filed Date: 12/6/23.

Accession Number: 20231206-5120.

Comment Date: 5 p.m. ET 12/27/23.

Docket Numbers: ER24-568-000.

Applicants: Dry Bridge Solar 2, LLC.

Description: § 205(d) Rate Filing: Revised Market-Based Rate Tariff to be effective 12/7/2023.

Filed Date: 12/6/23.

Accession Number: 20231206-5122.

Comment Date: 5 p.m. ET 12/27/23.

Docket Numbers: ER24-569-000.

Applicants: Dry Bridge Solar 3, LLC.

Description: § 205(d) Rate Filing: Revised Market-Based Rate Tariff to be effective 12/7/2023.

Filed Date: 12/6/23.

Accession Number: 20231206-5129.

Comment Date: 5 p.m. ET 12/27/23.

Docket Numbers: ER24-570-000.

Applicants: Dry Bridge Solar 4, LLC.

Description: § 205(d) Rate Filing: Revised Market-Based Rate Tariff to be effective 12/7/2023.

Filed Date: 12/6/23.

Accession Number: 20231206-5133.

Comment Date: 5 p.m. ET 12/27/23.

Docket Numbers: ER24-571-000.

Applicants: ELP Stillwater Solar, LLC.

Description: § 205(d) Rate Filing: Revised Market-Based Rate Tariff to be effective 12/7/2023.

Filed Date: 12/6/23.

Accession Number: 20231206-5136.

Comment Date: 5 p.m. ET 12/27/23.

Docket Numbers: ER24-572-000.

Applicants: Grissom Solar, LLC.

Description: § 205(d) Rate Filing: Revised Market-Based Rate Tariff to be effective 12/7/2023.

Filed Date: 12/6/23.

Accession Number: 20231206-5137.

Comment Date: 5 p.m. ET 12/27/23.

Docket Numbers: ER24-573-000.

Applicants: HDSI, LLC.

Description: § 205(d) Rate Filing: Revised Market-Based Rate Tariff to be effective 12/7/2023.

Filed Date: 12/6/23.

Accession Number: 20231206-5143.

Comment Date: 5 p.m. ET 12/27/23.

Docket Numbers: ER24-574-000.

Applicants: Innovative Solar 31, LLC.

Description: § 205(d) Rate Filing: Revised Market-Based Rate Tariff to be effective 12/7/2023.

Filed Date: 12/6/23.

Accession Number: 20231206-5145.

Comment Date: 5 p.m. ET 12/27/23.

Docket Numbers: ER24-575-000.

Applicants: Innovative Solar 47, LLC.

Description: § 205(d) Rate Filing: Revised Market-Based Rate Tariff to be effective 12/7/2023.

Filed Date: 12/6/23.

Accession Number: 20231206-5152.

Comment Date: 5 p.m. ET 12/27/23.

Docket Numbers: ER24-576-000.

Applicants: Janis Solar, LLC.

Description: § 205(d) Rate Filing: Revised Market-Based Rate Tariff to be effective 12/7/2023.

Filed Date: 12/6/23.

Accession Number: 20231206-5156.

Comment Date: 5 p.m. ET 12/27/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 6, 2023.
Kimberly D. Bose,
Secretary.

[FR Doc. 2023-27224 Filed 12-11-23; 8:45 am]

BILLING CODE 6717-01-P